Proclamation 9042 of October 11, 2013

Blind Americans Equality Day, 2013

By the President of the United States of America

A Proclamation

Blind and visually impaired persons have always played an important role in American life and culture, and today we recommit to our goals of full access and opportunity. Whether sprinting across finish lines, leading innovation in business and government, or creating powerful music and art, blind and visually impaired Americans imagine and pursue ideas and goals that move our country forward. As a Nation, it is our task to ensure they can always access the tools and support they need to turn those ideas and goals into realities.

My Administration is committed to advancing opportunity for people with disabilities through the Americans with Disabilities Act and other important avenues. In June of this year, the United States joined with over 150 countries in approving a landmark treaty that aims to expand access for visually impaired persons and other persons with print disabilities to information, culture, and education. By facilitating access to books and other printed material, the treaty holds the potential to open up worlds of knowledge. If the United States becomes a party to this treaty, we can reduce the book famine that confronts the blind community while maintaining the integrity of the international copyright framework.

The United States was also proud to join 141 other countries in signing the Convention on the Rights of Persons with Disabilities in 2009, and we are working toward its ratification. Americans with Disabilities, including those who are blind or visually impaired, should have the same opportunities to work, study, and travel in other countries as any other American, and the Convention can help us realize that goal.

To create a more level playing field and ensure students with disabilities have access to the general education curriculum, the Department of Education issued new guidance in June for the use of Braille as a literacy tool under the Individuals with Disabilities Education Act. This guidance reaffirms my Administration's commitment to using Braille to open doors for students who are blind or visually impaired, so every student has a chance to succeed in the classroom and graduate from high school prepared for college and careers.

We have come a long way in our journey toward a more perfect Union, but we still have work ahead. We must fulfill the promise of life, liberty, and the pursuit of happiness and expand the freedom to make of our lives what we will. On this day, we celebrate the accomplishments of our blind and visually impaired citizens, and we recommit to building a Nation where all Americans, including those who are blind or visually impaired, live with the assurance of equal opportunity and equal respect.

By joint resolution approved on October 6, 1964 (Public Law 88-628, as amended), the Congress designated October 15 of each year as “White Cane Safety Day” to recognize the contributions of Americans who are blind or have low vision. Today, let us recommit to ensuring we remain a Nation where all our people, including those with disabilities, have every opportunity to achieve their dreams.

NOW, THEREFORE, I, BARACK OBAMA, President of the United States of America, by virtue of the authority vested in me by the Constitution and the laws of the United States, do hereby proclaim October 15, 2013, as Blind Americans Equality Day. I call upon public officials, business and community leaders, educators, librarians, and Americans across the country to observe this day with appropriate ceremonies, activities, and programs.

IN WITNESS WHEREOF, I have hereunto set my hand this eleventh day of October, in the year of our Lord two thousand thirteen, and of the Independence of the United States of America the two hundred and thirty-eighth.

[FR Doc. 2013-24526

Filed 10-17-13; 8:45 am]

Billing code 3295-F4